DEPARTMENT OF COMMERCE

International Trade Administration

[A-570-803]

Notice of Amended Final Antidumping Duty Administrative Reviews: Heavy Forged Hand Tools From the People's Republic of China

AGENCY: Import Administration, International Trade Administration, Department of Commerce.

ACTION: Notice of amended final results of antidumping duty administrative reviews.

EFFECTIVE DATE: February 13, 2003.

FOR FURTHER INFORMATION CONTACT: Thomas Martin or Thomas Futtner at (202) 482-3936 or (202) 482-3814, respectively, AD/CVD Enforcement Office IV, Group II, Import Administration, Room 1870, International Trade Administration, U.S. Department of Commerce, 14th Street and Constitution Avenue, NW., Washington, DC 20230.

SUPPLEMENTARY INFORMATION:

Background

On September 12, 2002, the Department published the final results of review for the tenth review of heavy forged hand tools (HFHTs) from the People's Republic of China (PRC). See Heavy Forged Hand Tools From the People's Republic of China: Final Results and Partial Rescission of Antidumping Duty Administrative Review and Determination Not To Revoke in Part, 67 FR 57789 (September 12, 2002) (Final Results). On September 16, 2002, the petitioner Ames True Temper, and the respondents, Shandong Machinery Import & Export Corporation (SMC), Tianjin Machinery Import & Export Corporation (TMC), Liaoning Machinery Import & Export Corporation (LMC), and Shandong Huarong General Group Corporation (Huarong), timely filed allegations that the Department made several ministerial errors in its final results. On September 23, 2002, the petitioner and respondents filed rebuttal comments. On September 30, 2002, the respondents (i.e., TMC, LMC, Huarong, and SMC) filed a summons and complaint with the U.S. Court of International Trade. On October 8, 2002, the respondents amended their complaint to include all four classes or kinds of merchandise. The respondents filed a second amended complaint on November 8, 2002, whereby SMC and LMC were removed as party-plaintiffs. The second amended complaint removed TMC's claims with respect to bars/wedges, limiting litigation to axes/adzes, hammers/sledges, and picks/mattocks. Huarong's claims were limited to bars/wedges. This notice addresses the clerical error allegations pertaining to LMC, SMC, and TMC's sales of bars/wedges.

Scope of Investigation

Imports covered by these reviews are shipments of HFHTs from the PRC comprising the following classes or kinds of merchandise: (1) Hammers and sledges with heads over 1.5 kg (3.33 pounds) (hammers/sledges); (2) bars over 18 inches in length, track tools and wedges (bars/wedges); (3) picks/mattocks; and (4) axes/adzes.

HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule of the United States (HTSUS) subheadings: 8205.20.60, 8205.59.30, 8201.30.00, and 8201.40.60. Specifically excluded are hammers and sledges with heads 1.5 kg (3.33 pounds) in weight and under, hoes and rakes, and bars 18 inches in length and under.

Although the HTSUS subheadings are provided for convenience and customs purposes, our written description of the scope of the orders is dispositive.

Allegation of Ministerial Errors

The petitioner alleges (1) that the Department made an error when it did not publish cash deposit rates for the PRC-wide entity; (2) that the Department miscalculated the importer-specific assessment rates; (3) that the Department miscalculated the surrogate values for several factors of production; (4) that the Department miscalculated marine insurance and international freight with respect to SMC; (5) that the Department erred when it excluded certain sales from SMC's margin calculation; (6) that the Department miscalculated inland freight with respect to LMC; and (7) that the Department should apply an adverse facts available margin to LMC for the hammers/sledges class that is higher than the PRC-wide rate. The respondents allege (1) that the Department miscalculated two of the surrogate values that were also cited by the petitioner; and (2) that the Department erred when it did not exclude aberrational values from two surrogate value calculations affecting LMC.

According to 19 CFR 351.224(e), “the Secretary will analyze any comments received and, if appropriate * * * correct any significant ministerial error by amending the final determination or the final results of review * * *” The term “ministerial error” is defined under 19 CFR 351.224(f) as “an error in addition, subtraction, or other arithmetic function, clerical error resulting from inaccurate copying, duplication, or the like, and any other similar type of unintentional error which the Secretary considers ministerial.”

After reviewing the allegations made by the petitioner and respondents, we have determined, in accordance with 19 CFR 351.224(e), that the Final Results did include several ministerial errors. However, we did not agree with several other allegations of ministerial errors. For a detailed discussion of our analysis, see Memorandum from Bernard T. Carreau, Deputy Assistant Secretary, to Faryar Shirzad, Assistant Secretary, “Tenth Antidumping Duty Review of Heavy Forged Hand Tools from the People's Republic of China—Amended Final Determination,” (Amended Final) dated February 6, 2003. Also, in addition to these ministerial errors, the Department found a ministerial error that had not been raised by the parties in the margin calculations for LMC, and three ministerial errors regarding TMC's margin for sales of bars/wedges that were not raised by the parties.

Therefore, in accordance with 19 CFR 351.224(e), we are amending the final results of the antidumping duty review of HFHTs from the PRC to reflect the correction of ministerial errors made in the margin calculations for SMC and LMC under the hammers/sledges and bars/wedges orders, and TMC under the bars/wedges order. These firm's revised weighted-average dumping margins are listed in the “Amended Final Results” section, below.

Amended Final Results of Review

We are amending the final results of the antidumping duty review of HFHTs from the PRC to reflect the correction of certain ministerial errors, as noted in the Amended Final. The revised final weighted-average dumping margins are as follows:

Manufacturer/exporter | Time period | Margin (percent)
Liaoning Machinery Import & Export Corporation:
Bars/Wedges | 2/1/00-1/31/01 | 0.00
Hammers/Sledges | 2/1/00-1/31/01 | 45.42
Shandong Machinery Import & Export Corporation: Hammers/Sledges | 2/1/00-1/31/01 | 3.71
Tianjin Machinery Import & Export Corporation: Bars/Wedges | 2/1/00-1/31/01 | 0.48

Assessment Rates

The Department will determine, and the Customs Service shall assess, antidumping duties on all appropriate entries. In accordance with 19 CFR 351.212(b)(1), we have calculated an exporter/importer (or customer)-specific assessment rate for merchandise subject to this review. Where the importer-specific assessment rate is above de minimis, we will instruct Customs to assess antidumping duties on that importer's entries of subject merchandise. The Department will issue appropriate assessment instructions directly to the Customs Service within 15 days of publication of these amended final results of review. We will direct the Customs Service to assess the resulting assessment rates for the subject merchandise on each of the importer's/customer's entries during the review period.

Cash Deposit Requirements

The following deposit requirements will be effective upon publication of this notice of amended final results of administrative reviews for all shipments of HFHTs from the PRC entered, or withdrawn from warehouse, for consumption on or after the date of publication, as provided by section 751(a)(1) of the Act: (1) The cash deposit rates for the reviewed companies will be the rates shown above except that, for firms whose weighted-average margins are less than 0.5 percent, and therefore, de minimis, the Department shall require a zero deposit of estimated antidumping duties; (2) for previously reviewed or investigated companies with a separate rate not listed above, the cash deposit rate will continue to be the company-specific rate published for the most recent period; (3) for all other PRC exporters, the cash deposit rates will be the PRC-wide rates; (4) for all non-PRC exporters of the subject merchandise, the cash deposit rate will be the rate applicable to the PRC supplier of that exporter. The current PRC-wide cash deposit rates are 18.72 percent for Axes/Adzes, 47.88 percent for Bars/Wedges, 27.71 percent for Hammers/Sledges and 98.77 percent for Picks/Mattocks. These deposit requirements shall remain in effect until publication of the final results of the next administrative reviews.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: February 6, 2003.
Faryar Shirzad,
Assistant Secretary for Import Administration.

[FR Doc. 03-3592 Filed 2-12-03; 8:45 am]

BILLING CODE 3510-DS-P